COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and service(s) to the Procurement List that will be furnished by nonprofit agencies employing persons who are blind or have other severe disabilities, and deletes product(s) and service(s) previously furnished by such agencies.

DATES: Comments must be received on or before: January 8, 2023.

ADDRESSES: Committee for Purchase From People Who Are Blind or Severely Disabled, 355 E Street SW, Suite 325, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following product(s) and service(s) are proposed for addition to the Procurement List for production by the nonprofit agencies listed:

Product(s)

NSN(s)—Product Name(s):

8465-01-082-6449—Cap Strap, Water Canteen, Olive Drab

8465-00-NIB-0290—Cap Strap, Water Canteen, 483 Green

Designated Source of Supply: The Lighthouse for the Blind, Inc. (Seattle Lighthouse), Seattle, WA

Contracting Activity: DEFENSE LOGISTICS AGENCY, DLA TROOP SUPPORT

Distribution: C-List

Mandatory for: 100% of the requirement of the Department of Defense

Service(s)

Service Type: Base Supply Center

Mandatory for: United States Naval Academy, Annapolis, MD

Designated Source of Supply: Winston-Salem Industries for the Blind, Inc, Winston-Salem, NC

Contracting Activity: DEPT OF THE NAVY, NAVSUP FLT LOG CTR NORFOLK

Service Type: Patient Access and Referral Accountability Service

Mandatory for: U.S. Air Force, Colorado Military Health System, Colorado Springs, CO

Designated Source of Supply: Global Connections to Employment, Inc., Pensacola, FL

Contracting Activity: DEPT OF THE AIR FORCE, FA7000 10 CONS LGC

Deletions

The following product(s) and service(s) are proposed for deletion from the Procurement List:

Product(s)

NSN(s)—Product Name(s):

7520-00-139-4869—File, Horizontal Desk, 12″ × 8 ½″ × 15″, 6 Shelf, Beige

7520-00-728-5761—File, Horizontal Desk, 12″ × 8 ½″ × 15″, 6 Shelf, Gray

7520-01-445-0733—File, Horizontal Desk, 12″ × 8 ½″ × 17 ⅛″, 7 Shelf, Beige

7520-01-445-0735—File, Horizontal Desk, 12″ × 8 ½″ × 12 ½″, 5 Shelf, Beige

7520-01-445-0736—File, Horizontal Desk, 12″ × 8 ½″ × 19 ⅝″, 8 Shelf, Beige

7520-01-445-0739—File, Horizontal Desk, 12″ × 8 ½″ × 7 ⅛″, 3 Shelf, Beige

7520-01-445-0741—File, Horizontal Desk, 12″ × 8 ½″ × 10″ 4 Shelf, Beige

7520-01-452-1558—File, Vertical Desk, 8″ × 11″ × 14 ¼″, 8 Shelf, Black

7520-01-452-1562—File, Vertical Desk, 8″ × 11″ × 14 ¼″, 8 Shelf, Beige

7520-01-452-1563—File, Combination Desk, 7 ¾″ × 14″ × 11″, Beige

7520-01-452-1564—File, Combination Desk, 7 ¾″ × 14″ × 11″, Black

7520-01-457-0719—File, Horizontal Desk, 12″ × 8 ½″ × 15″, 6 Shelf, Black

7520-01-457-0721—File, Horizontal Desk, 12″ × 8 ½″ × 10″, 4 Shelf, Black

7520-01-457-0723—File, Horizontal Desk, 12″ × 8 ½″ × 12 ½″, 5 Shelf, Black

7520-01-457-0724—File, Horizontal Desk, 12″ × 8 ½″ × 7 ⅛″, 3 Shelf, Black

7520-01-457-0725—File, Horizontal Desk, 12″ × 8 ½″ × 17 ⅛″, 7 Shelf, Black

7520-01-457-0726—File, Horizontal Desk, 12″ × 8 ½″ × 19 ⅝″, 8 Shelf, Black

Contracting Activity: GSA/FAS ADMIN SVCS ACQUISITION BR(2, NEW YORK, NY

NSN(s)—Product Name(s):

8415-01-364-3320—Suit, Contamination Avoidance Suit, Hooded Poncho and Trousers, Army, Green, S

8415-01-364-3321—Suit, Contamination Avoidance Suit, Hooded Poncho and Trousers, Army, Green, M/L

8415-01-364-3322—Suit, Contamination Avoidance Suit, Hooded Poncho and Trousers, Army, Green, XL/XXL

Designated Source of Supply: ORC Industries, Inc., La Crosse, WI

Contracting Activity: DLA TROOP SUPPORT, PHILADELPHIA, PA

NSN(s)—Product Name(s):

7510-01-590-1503—Laser Toner Cartridge, 12X

Designated Source of Supply: TRI Industries NFP, Vernon Hills, IL

Contracting Activity: GSA/FAS ADMIN SVCS ACQUISITION BR(2, NEW YORK, NY

Service(s)

Service Type: Mattress & Box Spring Rehabilitation

Designated Source of Supply: Mississippi Industries for the Blind, Jackson, MS

Contracting Activity: GENERAL SERVICES ADMINISTRATION, FPDS AGENCY COORDINATOR

Michael R. Jurkowski,
Acting Director, Business Operations.

[FR Doc. 2022-26809 Filed 12-8-22; 8:45 am]

BILLING CODE 6353-01-P